DEPARTMENT OF ENERGY

Federal Energy Regulatory Commission

[Docket Nos. CP19-502-000, CP19-502-001]

Commonwealth LNG, LLC; Notice of Availability of the Final Supplemental Environmental Impact Statement for the Proposed Commonwealth LNG Project

The staff of the Federal Energy Regulatory Commission (FERC or Commission) has prepared a final supplemental environmental impact statement (EIS) to address the U.S. Court of Appeals for the District of Columbia Circuit's (court) July 16, 2024 opinion finding, as relevant here, that FERC failed to properly assess the cumulative effects of the Commonwealth LNG Project's (Project) nitrogen dioxide emissions and remanded the Order to FERC for further proceedings.¹ The Project is proposed by Commonwealth LNG, LLC (Commonwealth) in the above-referenced dockets.² Commonwealth requests authorization to site, construct, and operate a natural gas liquefaction and export facility, including a Natural Gas Act section 3 natural gas pipeline, in Cameron Parish, Louisiana.

¹ Healthy Gulf v. FERC, 107 F.4th 1033 (D.C. Cir. 2024).

² For tracking purposes under the National Environmental Policy Act, the unique identification number for documents relating to this environmental review is SEIS-019-20-000-1732105621.

On September 9, 2022, the Commission staff issued a final EIS for the Project.³ On November 17, 2022, the Commission issued an “Order Granting Authorization Under Section 3 of the Natural Gas Act” (Order) for Commonwealth's Project.⁴ On June 9, 2023, the Commission issued an “Order Addressing Arguments Raised on Rehearing”.⁵ On July 16, 2024, the court issued its opinion and remanded the Order to FERC for further proceedings.⁶ As part of the Commission's consideration of the proposed Project on remand, we ⁷ prepared this final supplemental EIS to assess the issue raised by the court.

³ eLibrary accession number 20220909-3017.

⁴ Commonwealth LNG, LLC, 181 FERC ¶ 61,143 (2022). eLibrary accession number 20221117-3091.

⁵ Order on reh'g, 183 FERC ¶ 61,173 (2023). eLibrary accession number 20230609-3058.

⁶ Healthy Gulf v. FERC, 107 F.4th 1033 (D.C. Cir. 2024).

⁷ “We,” “us,” and “our” refer to the environmental and engineering staff of the FERC's Office of Energy Projects.

The Commission mailed a copy of the “Notice of Availability” to Federal, State, and local government representatives and agencies; elected officials; environmental and public interest groups; Native American Tribes; potentially affected landowners and other interested individuals and groups; and newspapers and libraries in the project area. The final supplemental EIS is only available in electronic format. It may be viewed and downloaded from the FERC's website (www.ferc.gov), on the natural gas environmental documents page (https://www.ferc.gov/industries-data/natural-gas/environment/environmental-documents). In addition, the final supplemental EIS may be accessed by using the eLibrary link on the FERC's website. Click on the eLibrary link (https://elibrary.ferc.gov/eLibrary/search) select “General Search” and enter the docket number in the “Docket Number” field (i.e., CP19-502). Be sure you have selected an appropriate date range. For assistance, please contact FERC Online Support at FercOnlineSupport@ferc.gov or toll free at (866) 208-3676, or for TTY, contact (202) 502-8659.

Additional information about the project is available from the Commission's Office of External Affairs, at (866) 208-FERC, or on the FERC website (www.ferc.gov) using the eLibrary link. The eLibrary link also provides access to the texts of all formal documents issued by the Commission, such as orders, notices, and rulemakings.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: May 16, 2025.
Debbie-Anne A. Reese
Secretary.

[FR Doc. 2025-09242 Filed 5-21-25; 8:45 am]

BILLING CODE 6717-01-P